DEPARTMENT OF ENERGY

Federal Energy Regulatory Commission

Combined Notice of Filings #3

Take notice that the Commission received the following electric rate filings:

Docket Numbers: ER10-3084-003.

Applicants: Chula Vista Energy Center, LLC.

Description: Notice of Non-Material Change in Status of Chula Vista Energy Center, LLC.

Filed Date: 2/2/26.

Accession Number: 20260202-5260.

Comment Date: 5 p.m. ET 2/23/26.

Docket Numbers: ER10-3131-006; ER19-1639-003.

Applicants: South Peak Wind LLC, Condon Wind Power, LLC.

Description: Triennial Market Power Analysis for Northwest Region of Condon Wind Power, LLC, et al.

Filed Date: 2/2/26.

Accession Number: 20260202-5266.

Comment Date: 5 p.m. ET 4/3/26.

Docket Numbers: ER11-4626-005.

Applicants: Mt. Poso Generation Company, LLC.

Description: Notice of Non-Material Change in Status of Mt. Poso Generation Company, LLC.

Filed Date: 2/2/26.

Accession Number: 20260202-5263.

Comment Date: 5 p.m. ET 2/23/26.

Docket Numbers: ER12-1470-020; ER10-3026-018; ER16-1833-016.

Applicants: Sempra Gas & Power Marketing, LLC, Termoelectrica U.S., LLC, Energia Sierra Juarez U.S., LLC.

Description: Notice of Non-Material Change in Status of Energia Sierra Juarez U.S., LLC, et al.

Filed Date: 2/2/26.

Accession Number: 20260202-5264.

Comment Date: 5 p.m. ET 2/23/26.

Docket Numbers: ER17-1794-009.

Applicants: Innovative Solar 42, LLC.

Description: Notice of Change in Status of Innovative Solar 42, LLC.

Filed Date: 2/2/26.

Accession Number: 20260202-5261.

Comment Date: 5 p.m. ET 2/23/26.

Docket Numbers: ER19-1217-008.

Applicants: Montana-Dakota Utilities Co.

Description: Notice of Non-Material Change in Status of Montana-Dakota Utilities Co.

Filed Date: 2/2/26.

Accession Number: 20260202-5262.

Comment Date: 5 p.m. ET 2/23/26.

Docket Numbers: ER21-2712-006; ER13-2386-014; ER10-2847-012; ER10-2818-019; ER10-2806-019.

Applicants: TransAlta Energy Marketing (U.S.) Inc., TransAlta Energy Marketing Corporation, TransAlta Centralia Generation LLC, Lakeswind Power Partners, LLC, Heartland Generation Ltd.

Description: Notice of Non-Material Change in Status of Heartland Generation Ltd, et al.

Filed Date: 1/30/26.

Accession Number: 20260130-5608.

Comment Date: 5 p.m. ET 2/20/26.

Docket Numbers: ER24-71-002.

Applicants: Aron Energy Prepay 30 LLC.

Description: Notice of Non-Material Change in Status of Aron Energy Prepay 30 LLC.

Filed Date: 2/2/26.

Accession Number: 20260202-5269.

Comment Date: 5 p.m. ET 2/23/26.

Docket Numbers: ER24-2179-003; ER25-3183-001; ER24-2824-004; ER25-960-002; ER22-2030-006; ER22-2031-007.

Applicants: Sonoran West Solar Holdings 2, LLC, Sonoran West Solar Holdings, LLC, RE Papago PV LLC, RE Papago LLC, RE Desert Bloom LLC, Bayou Galion Solar Project, LLC.

Description: Notice of Change in Status of Bayou Galion Solar Project, LLC, et al.

Filed Date: 2/2/26.

Accession Number: 20260202-5265.

Comment Date: 5 p.m. ET 2/23/26.

Docket Numbers: ER25-1422-004.

Applicants: Aron Energy Prepay 57 LLC.

Description: Notice of Non-Material Change in Status of Aron Energy Prepay 57 LLC.

Filed Date: 2/2/26.

Accession Number: 20260202-5268.

Comment Date: 5 p.m. ET 2/23/26.

Docket Numbers: ER26-648-000; ER26-649-000.

Applicants: Atlas Solar V, LLC, Atlas Solar VI, LLC.

Description: Response to 01/28/2026, Deficiency Letter of Atlas Solar, V, LLC, et al.

Filed Date: 2/4/26.

Accession Number: 20260204-5183.

Comment Date: 5 p.m. ET 2/25/26.

Docket Numbers: ER26-1140-001.

Applicants: Midcontinent Independent System Operator, Inc., Big Rivers Electric Corporation.

Description: Tariff Amendment: Big Rivers Electric Corporation submits tariff filing per 35.17(b): 2026-02-13_SA 4667 Big Rivers-OMU Sub TIA to be effective 3/29/2026.

Filed Date: 2/13/26.

Accession Number: 20260213-5133.

Comment Date: 5 p.m. ET 3/6/26.

Docket Numbers: ER26-1379-000.

Applicants: EnerSmart El Cajon BESS LLC, EnerSmart El Cajon BESS LLC, EnerSmart Imperial Beach BESS LLC, EnerSmart Imperial Beach BESS LLC, Enersmart.

Description: Notice of Cancellation of Market Based Rate Tariff of EnerSmart Storage, LLC, et al.

Filed Date: 2/4/26.

Accession Number: 20260204-5182.

Comment Date: 5 p.m. ET 2/25/26.

Docket Numbers: ER26-1380-000.

Applicants: Avista Corporation.

Description: 205(d) Rate Filing: Avista Corp—BPA Network Integration Transmission Service Agreements to be effective 10/1/2028.

Filed Date: 2/13/26.

Accession Number: 20260213-5127.

Comment Date: 5 p.m. ET 3/6/26.

Docket Numbers: ER26-1381-000.

Applicants: PJM Interconnection, L.L.C.

Description: 205(d) Rate Filing: Original GIA, Service Agreement No. 7845; Project; AG1-090/AG1-377/AG1-378 to be effective 1/14/2026.

Filed Date: 2/13/26.

Accession Number: 20260213-5129.

Comment Date: 5 p.m. ET 3/6/26.

Docket Numbers: ER26-1382-000.

Applicants: PacifiCorp.

Description: 205(d) Rate Filing: Weber Basin Const Agt—Davis Aqueduct Pump Station (RS No. 805) to be effective 4/15/2026.

Filed Date: 2/13/26.

Accession Number: 20260213-5130.

Comment Date: 5 p.m. ET 3/6/26.

Docket Numbers: ER26-1383-000.

Applicants: PJM Interconnection, L.L.C.

Description: 205(d) Rate Filing: Original GIA, Service Agreement No. 7847; AG1-342 to be effective 1/14/2026.

Filed Date: 2/13/26.

Accession Number: 20260213-5131.

Comment Date: 5 p.m. ET 3/6/26.

Docket Numbers: ER26-1384-000.

Applicants: Tucson Electric Power Company.

Description: 205(d) Rate Filing: Service Agreement No. 624 to be effective 2/16/2026.

Filed Date: 2/13/26.

Accession Number: 20260213-5137.

Comment Date: 5 p.m. ET 3/6/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: February 13, 2026.
Carlos D. Clay,
Deputy Secretary.

[FR Doc. 2026-03316 Filed 2-19-26; 8:45 am]

BILLING CODE 6717-01-P